DEPARTMENT OF LABOR

Employment and Training Administration

[TA-W-63,086]

K-Industries, USA, LCC; Including Workers Whose Wages Were Paid By Ultimate Staffing Service Riviera Beach, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 9, 2008, applicable to workers of K-Industries, USA, LLC, Riviera Beach, Florida. The notice was published in the Federal Register on April 23, 2008 (73 FR 21991).

At the request of a State agency, the Department reviewed the certification for workers of the subject firm. The workers are engaged in the production of injection-molded plastic parts.

New information provided to the Department shows that before January 2008, some workers of the subject firm were formerly from Ultimate Staffing Service, employed on-site, and sufficiently under control of K Industries USA to be considered leased workers. These workers had their wages reported under the Unemployment Insurance (UI) tax account for Ultimate Staffing Service.

Accordingly, the Department is amending this certification to properly reflect this matter.

The intent of the Department's certification is to include all workers of K-Industries, USA, LLC who were adversely affected by a shift in production to the Dominican Republic.

The amended notice applicable to TA-W-63,086 is hereby issued as follows:

All workers of K-Industries, USA, LLC, including workers who's wages were paid by Ultimate Staffing Service, Riviera Beach, Florida, who became totally or partially separated from employment on or after March 27, 2007, through April 9, 2010, are eligible to apply for adjustment assistance under Section 223 of the Trade Act of 1974, and are also eligible to apply for alternative trade adjustment assistance under Section 246 of the Trade Act of 1974.

Signed at Washington, DC, this 15th day of May 2008.
Richard Church
Certifying Officer, Division of Trade Adjustment Assistance.

[FR Doc. E8-11373 Filed 5-20-08; 8:45 am]

BILLING CODE 4510-FN-P